DEPARTMENT OF THE INTERIOR

Bureau of Land Management

[19X LLUT920000 L13200000.EL0000 UTU-93299]

Notice of Invitation To Participate; Coal Exploration License Application UTU-93299, Sanpete County, Utah

AGENCY: Bureau of Land Management, Interior.

ACTION: Notice of invitation.

SUMMARY: Pursuant to the Mineral Leasing Act of 1920, as amended by the Federal Coal Leasing Amendments Act of 1976, and the Bureau of Land Management (BLM) regulations, the BLM invites all interested, qualified parties to participate with Canyon Fuel Company, LLC (CFC) on a pro rata cost sharing basis for the exploration of coal deposits owned by the United States of America in Sanpete County, Utah.

DATES: CFC published a notice of invitation to participate in this coal exploration license once each week for two consecutive weeks in the Pyramid Newspaper in Mt. Pleasant, Utah, dated May 31, 2018, and June 7, 2018, and by virtue of this announcement in the Federal Register. Any party seeking to participate in this exploration program must send written notice to the BLM and CFC, as provided in the ADDRESSES section below, no later than April 5, 2019.

ADDRESSES: Copies of the exploration license application and exploration plan are available for review from 7:45 a.m.- 4:30 p.m., Monday through Friday, excluding Federal holidays (serialized under the number of UTU-93299) in the State Office public room at 440 West 200 South, Suite 500, Salt Lake City, Utah.

The written notice to participate in the exploration program must be sent to Kent Hoffman, BLM Utah State Office, Division of Lands and Minerals, 440 West 200 South, Suite 500, Salt Lake City, Utah 84101, and to Paul Jensen, Canyon Fuel Company LLC., c/o Skyline Mine, HC 35 Box 380, Helper, Utah 84526.

FOR FURTHER INFORMATION CONTACT: Stan Perkes by telephone (801) 539-4036, or by email: sperkes@blm.gov. Persons who use a telecommunications device for the deaf (TDD) may call the Federal Relay Service (FRS) at 1-800-877-8339 to leave a message or question for the above individual. The FRS is available 24 hours a day, 7 days a week. The BLM will reply during normal business hours.

SUPPLEMENTARY INFORMATION: The BLM authorizes coal exploration on lands not contained in a federal coal lease per the Mineral Leasing Act of 1920, as amended. This BLM coal exploration program allows the public a methodology to gain geologic information to determine the viability of the coal resources. The BLM issues the licenses for up to two years. If the holder requires more time for the exploration, the BLM can issue a new license based on a new application. The BLM regulations at 43 CFR 3410.2 require the publication of an invitation for interested parties to participate in the coal exploration in the Federal Register. The BLM may require a modification to the exploration plan to accommodate the legitimate exploration needs of persons seeking to participate. The proposed exploration area includes the following described lands in Sanpete County, Utah:

Salt Lake Meridian, Utah

T. 14 S., R. 6 E.,

Sec. 8, NE1/4;

Sec. 9.

The areas described contain 800 acres.

Authority: 43 CFR 3410.2-1(c)(1)

Anita Bilbao,
Associate State Director.

[FR Doc. 2019-04057 Filed 3-5-19; 8:45 am]

BILLING CODE 4310-DQ-P